COMMISSION ON CIVIL RIGHTS

Sunshine Act Notice

AGENCY: Commission on Civil Rights.

Date and Time Friday, March 19, 2004; 9:30 a.m.

Place: U.S. Commission on Civil Rights, 624 9th Street, NW., Room 540, Washington, DC 20425.

Status:

Agenda

I. Approval of Agenda

II. Approval of Minutes of Feburary 20, 2004, Meeting

III. Announcements

IV. Staff Director's Report

V. State Advisory Committee Report: Civil Rights Implications of Post-Steptember 11 Law Enforcement Practices in New York (New York)

VI. Future Agenda Items

10:30 a.m. Briefing on the USA Patriot Act and Related Anti-Terrorism Efforts: Balancing Homeland Security and Civil Rights.

Contact Person for Further Information: Les Jin, Press and Communications, (202) 376-7700.

Debra A. Carr,
Deputy General Counsel.

[FR Doc. 04-5784 Filed 3-10-04; 1:12 pm]

BILLING CODE 6335-01-M